Title 3—

The President

Proclamation 9577 of March 6, 2017

National Consumer Protection Week, 2017

By the President of the United States of America

A Proclamation

The economic strength and vitality of our Nation is directly linked to our consumers' confidence in the integrity and security of their personal information and the robust protection of their privacy. As an increasing number of transactions and activities occur online, the safety of vital consumer information is increasingly at risk. The American people deserve freedom from unscrupulous actors who perpetrate identity theft, abuse personal information, or engage in fraud.

Cyber crimes, which defraud hard-working Americans, cost our families billions of dollars each year and result in tremendous stress, loss of time, and hardship. Americans must have access to the tools necessary to protect their personal information and privacy and know how to use them to improve their online security. Our first defense against fraudulent cyber transactions and the misuse of personal information will always be a well-informed consumer.

National Consumer Protection Week reminds us of the importance of empowering consumers by helping them to more capably identify and report cyber scams, monitor their online privacy and security, and make well-informed decisions. The Federal Government, in conjunction with a network of national organizations and State and local partners, provides consumer education resources to help Americans protect their personal information. These resources assist military service members and their families, identity-theft victims, and all potentially vulnerable consumers. Our work to protect consumers from identity theft, abuse of personal information, and fraud, and to improve the integrity and security of our marketplaces, enhances the prosperity of our great country.

NOW, THEREFORE, I, DONALD J. TRUMP, President of the United States of America, by virtue of the authority vested in me by the Constitution and the laws of the United States, do hereby proclaim March 5 through March 11, 2017, as National Consumer Protection Week. I call upon government officials, industry leaders, and advocates to educate our citizens about the protection of personal information and identity theft through consumer education activities in communities across the country.

IN WITNESS WHEREOF, I have hereunto set my hand this sixth day of March, in the year of our Lord two thousand seventeen, and of the Independence of the United States of America the two hundred and forty-first.

[FR Doc. 2017-04859

Filed 3-8-17; 11:15 am]

Billing code 3295-F7-P